DEPARTMENT OF HEALTH AND HUMAN SERVICES

Administration for Children and Families

Assets for Independence Demonstration Program

Agency: Administration for Children and Families (ACF), Office of Community Services (OCS).

Funding Opportunity Title: Assets for Independence Demonstration Program.

Announcement Type: Competitive Grant-Initial.

Funding Opportunity Number: HHS-2004-ACF-OCS-EI-0027.

CFDA Number: 93.602.

Due Dates for Applications: July 27, 2004.

I. Funding Opportunity Description

The Administration for Children and Families, Office of Community Services (OCS) will accept applications from organizations seeking financial assistance to establish and administer Assets for Independence (AFI) Projects. These projects are designed to assist low-income people in becoming economically self-sufficient. They do so by helping clients learn about economic and consumer issues and establish matched savings accounts called Individual Development Accounts (IDA) in order to save for a first home, a business or higher education. Grant recipient organizations (grantees) will be required to use a portion of the Federal financial assistance to support information collection and other activities related to an on-going national evaluation of the impact of AFI Projects and IDAs.

Grantees must comply with requirements in this program's authorizing legislation, the Assets for Independence Act (AFIA) (Title IV of the Community Opportunities, Accountability, and Training and Educational Services Act of 1998, as amended, Pub. L. 105-285, 42 U.S.C. 604 note). A copy of the Act is available at http://www.acf.hhs.gov/assetbuilding/

Program Purpose and Scope

The purpose of the Assets for Independence Program is to demonstrate and evaluate the effectiveness of asset-building projects that teach low-income families about financial issues and enable them to save earned income over the long-term in special matched savings accounts called Individual Development Accounts (IDA). The program is designed specifically to demonstrate and evaluate the effects of IDAs generally and AFI Projects in particular in terms of increasing the economic self-sufficiency of low-income families; for promoting savings for first-time homeownership, post-secondary education, and small business or micro-enterprise development; and stabilizing and improving families and communities.

OCS seeks to support new and innovative AFI Projects administered by national, State-wide, regional and community-based organizations across the nation. The office is interested in supporting organizations that would establish first-time AFI Projects. OCS is also interested in providing financial support for organizations that are managing existing AFI Projects.

Examples of the types of organizations that may apply (if they meet all eligibility criteria) include, but are not limited to, community action agencies; community development corporations; financial institutions such as banks, credit unions, and community development financial institutions; faith-based and community organizations; State and local government agencies and other organizations; marriage strengthening coalitions; service and fraternal organizations; schools, colleges and universities; and consortia or groups of organizations that collaborate to administer an AFI Project.

Because ACF wants to see a broad range of project types, we are encouraging applications that address one or more of the following:

• Projects that serve communities and groups that are less represented among the current AFI Projects such as residents of rural areas and Native American individuals or communities.

• Projects designed in partnership with schools, colleges or universities to provide services to youth who are saving to attend higher education.

• Projects designed in partnership with area businesses and structured to provide services to the employees of those businesses.

• Projects designed in partnership with local agency that manages the Temporary Assistance for Needy Families program and/or other employment education and training offices and child support enforcement agencies.

• Projects administered by a consortium or group of organizations. In this arrangement, a lead organization receives the OCS funding and administers the overall AFI Project including the financial accounting services for the project, while the subsidiary organizations implement project activities and provide services to project participants in a defined locality or a certain target population in a region, State, city or other geographic area. OCS believes such consortia or collaborative arrangements may be particularly cost effective and efficient.

• Projects that involve local family strengthening coalitions and related organizations in an effort to integrate asset-building work with activities that promote healthy marriage and family formation. These activities may include, for example, communication skills training, marriage-oriented financial education, family budgeting, and marriage enrichment training. The goal for integrating asset building with healthy marriage projects is to link financial education with family budgeting abilities and marital communication skills that help to strengthen families and improve the communities in which families live. Furthermore, ACF is also encouraging applications that:

• Propose to enroll participants from households in which a child or children are living with the child's biological or adoptive parent or legal guardian;

• Propose to enroll individuals residing within relatively well-defined neighborhoods or communities that experience high rates of poverty or unemployment; or

• Propose a high proportion of cost-share funds committed from private sector sources.

II. Award Information

Funding Instrument Type: Grant.

Anticipated Total Program Funding: $18,000,000.

Anticipated Number of Awards: 55.

Ceiling on amount of Individual Awards: $1,000,000 per project period and budget period.

An application received that exceeds the upper value of the dollar range specified will be considered “non-responsive” and be returned to the applicant without further review.

Floor of Individual Awards: None.

Average Anticipated Award Amount: $360,000 per project period and budget period.

Project Periods for Awards: 5 year (60 months) project period with 5 year (60 months) budget period.

III. Eligibility Information

1. Eligible Applicants

State governments or agencies; county governments or agencies; city or township governments or agencies including Public Housing Authorities; special district governments or agencies; independent school districts; Tribal governments as defined by section 4 of the Indian Self Determination and Education Act (25 U.S.C. 450b); Native Hawaiian organizations as defined by section 7912 of the Native Hawaiian Education Act (20 U.S.C. 7912); non-profits having a 501(c)(3) status with the Internal Revenue Service; faith-based organizations having 501(c)(3) status with the Internal Revenue Service; private institutions of higher education having 501(c)(3) status with the Internal Revenue Service; Low Income Credit Unions so designated by the National Credit Union Administration; Community Development Financial Institutions so designated by the U.S. Treasury; and other organizations.

Additional Information on Eligibility: State, Tribal County, or local governments, school districts, Public Housing authorities, and other governments or agencies are eligible only if they apply jointly with a non-profit organization having 501(c)(3) status that provides evidence of its IRS tax-exempt status.

Applications submitted by joint applicants, for example, by a State, local or Tribal government agency and a non-profit organization, must clearly identify the organizations that are the joint applicants. The required Standard Form 424 “Application for Federal Assistance” must be signed by an authorized representative of the joint applicant that will be responsible for grant administration and AFI Project implementation. The responsible applicant may be either the government agency or the non-profit organization.

Non-profit applicants applying for funding are required to submit proof of their 501(c)(3) non-profit status. Proof of this status is the following:

(a) A reference to the applicant organization's listing in the Internal Revenue Service's (IRS) most recent list of tax-exempt organizations described in the IRS code

(b) A copy of a currently valid IRS tax exemption certificate.

Low-Income Credit Unions and Community Development Financial Institutions are eligible to apply directly if they demonstrate a strong collaborative relationship with one or more local community-based organization(s) that seek to address poverty and the needs of community residents. Such community-based organizations may be non-profit organizations with or without 501(c) (3) status, philanthropic foundations such as community foundations, or for-profit organizations.

Applicant Low-Income Credit Unions and Community Development Financial Institutions may be a component of a State, local or Tribal government, or a non-profit or for-profit organization including a faith-based organization.

Applicant Low-Income Credit Unions must submit official documentation that the National Credit Union Administration has designated the organization as such. For information about Low-Income Credit Unions, see http://www.ncua.gov.

Applicant Community Development Financial Institutions must submit official documentation that the U. S. Department of the Treasury has designated the organization as such. For information about designated organizations, go to http://www.cdfifund.gov.

Existing AFI Project grantees may submit applications for funding for new five-year projects. Such applicants will be reviewed competitively with all other applications.

Applications that exceed the ceiling on amount of individual awards will be considered non-responsive and will be returned to the applicant without further review.

Applications that fail to include the required non-federal cost share will be considered non-responsive and will be returned to the applicant without further review.

2. Cost Sharing or Matching

Grantees must provide or arrange for the provision of at least 50 percent of the total approved cost of the project from non-Federal sources. The total approved cost of the project is the sum of the Federal grant and the non-Federal share. The non-Federal cost share must be met by cash contributions. Therefore, a project requesting $350,000 in Federal funds must provide firm commitments of at least $350,000 of non-Federal contribution (50 percent of the total approved project cost of $700,000). Grantees will be held accountable for all non-Federal contributions described in their application even if they have demonstrated contributions that exceed the required minimum amount.

The basis for an applicant's meeting the cost-share commitment must be firm, and cannot be speculative. Applications without a firm cost-share commitment will not be evaluated.

A firm cost-share commitment may be shown by letters from contributing organizations, signed financial agreements, or other means. The firm commitments need not require full payment of the cost-share commitment at one time. Rather, for example, they may be a firm commitment to provide funding according to a well-defined payment schedule over the project period.

3. Other

On June 27, 2003 the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com

Applicants that fail to follow the required format described in section IV.2 “Content and Form or Application Submission” will be considered non-responsive and will not be eligible for funding under this announcement.

Applications that fail to include the required amount of cost-sharing will be considered non-responsive and will not be eligible for funding under this announcement.

Applications that exceed the $1,000,000 ceiling will be considered non-responsive and will not be eligible for funding under this announcement.

Applications from non-profit applicants that fail to submit proof of their 501(3) non-profit status will be considered non-responsive and will not be eligible for funding under this announcement.

IV. Application and Submission Information

1. Address To Request Application Package

U.S. Department of Health and Human Services, Administration for Children and Families, Office of Community Services Operations Center, Assets for Independence Program, 1815 North Fort Myer Drive, Suite 300, Arlington, Virginia 22209, Email: ocs@lcgnet.com; Telephone: (800) 281-9519; ATTN: Assets for Independence Program.

URL to Obtain an AFI Program Application Package: http://www.acf.hhs.gov/assetbuilding/.

Applicants are encouraged to use information provided in the AFI Program Application Package. The packages provide detailed information about AFI Program requirements and tips on developing a high quality project. The packages also include several worksheets that are useful for project planning and developing application materials. The packages are posted on the Internet at http://www.acf.hhs.gov/assetbuilding/. Applicants that use the work sheets may choose to include them as appendices to their application materials.

2. Content and Form of Application Submission

This subsection provides detailed instructions for developing the application. Please see Section V “Application Review Information” for additional relevant information.

Application Format

You may submit your application to us in either electronic or paper format.

To submit an application electronically, please use the www.Grants.gov site. If you use Grants.gov, you will be able to download a copy of the application package, complete it off-line, and then upload and submit the application via the Grants.gov site. You may not e-mail an electronic copy of a grant application to us.

Please note the following if you plan to submit your application electronically via Grant.gov:

• Electronic submission is voluntary.

• When you enter the Grants.gov site, you will find information about submitting an application electronically through the site, as well as the hours of operation. We strongly recommend that you do not wait until the application deadline date to begin the application process through Grants.gov.

• To use Grants.gov, you, as the applicant, must have a DUNS Number to register in the Central Contractor Registry (CCR). You should allow a minimum of five days to complete the CCR registration.

• You will not receive additional point value because you submit a grant application in electronic format, nor will we penalize you if you submit an application in paper format.

• You may submit all documents electronically, including all information typically included on the SF 424 and all necessary assurance and certifications.

• Your application must comply with any page limitation requirements described in this program announcement.

• After you electronically submit your application, you will receive an automatic acknowledgement from Grants.gov that contains a Grants.gov tracking number. The Administration for Children and Families will retrieve your application from Grant.gov.

• We may request that you provide original signatures on forms at a later date.

• You may access the electronic application for this program on www.Grants.gov.

• You must search for the downloadable application package by the CFDA number.

To submit an application in paper format, please do the following.

Submit an original application and two additional copies. The original and copies must include all required forms, certifications, assurances and appendices. It must be signed by an authorized representative and have original signatures.

Applicants have the option of omitting from the copies (not the original) specific salary rates or amounts for individuals specified in the application budget.

Applicants who choose to submit the application materials in paper format are strongly encouraged also to provide an electronic copy on floppy disk or on CD-ROM in any standard formats such as MS Word, WordPerfect, and Adobe Acrobat.

Submit paper application materials on white 8½ by 11 inch paper only. Do not use colored, oversized or folded materials.

The font size may be no smaller than 12 pitch and the margins must be at least one inch on all sides.

Number all application pages sequentially throughout the package, beginning with the abstract of the proposed project as page number one. Also include page numbers for supplemental documents, including appendices. Please do not include organizational brochures or other promotional materials, slides, films, newspaper clips, and so forth.

Please present paper application materials either in loose-leaf notebooks or in folders with pages two-hole punched at the top center and fastened with a slide paper fastener.

Page Limitation

The application package including sections for the table of contents, project abstract, and project narrative may not exceed 40 pages. The page limitation does not include required standard forms, assurances, certifications, disclosures and appendices. The page limitation also does not apply to any supplemental documents required in this announcement.

Application Content

Each application must include the seven components listed below. Applicants are strongly encouraged to submit materials that are responsive to guidance in this section and in the six evaluation criteria listed in this announcement. The “Application Review Information” section provides additional generic guidance that applies to all ACF competitive grant announcements, which applicants will find helpful.

1. Table of Contents—Numbered list of sections, sub-sections, and appendices with corresponding page numbers.

2. Abstract—Brief narrative that describes the project goals and objectives, the target populations or communities, the overall strategy or work plan, and information about the applicant and all participating organizations including financial institutions. List all sources of financial and in-kind support.

3. Project Narrative—Narrative that addresses all issues listed below and includes the following components and other matters noted in the “Evaluation Criteria” section of this announcement.

(a) Goals and Objectives—One or two broad statements of the overall desired goals of the proposed AFI Project, and a small number (4-6) of objectives that describe measurable outcomes the project is expected to produce in a given time period such as, (1) The increase in percentage of project participants who are homeowners; (2) The increase in the percentage of project participants who acquire postsecondary education; and (3) The increase in the percentage of project participants who create or expand a micro-enterprise. Applicants are encouraged to develop additional outcome statements that address their program's unique goals. These may focus on how the proposed project will enhance the overall AFI Demonstration and add to the national evaluation of the extent to which IDAs help reduce poverty.

(b) Needs for Assistance and Strengths—Description of the populations or communities to be assisted. Document needs in terms of geographic location, participant eligibility and other factors. Use indicators such as the following to document these “other factors”: homeownership rates, education attainment, access to capital, use of Federal or State Earned Income Tax Credit or other refundable credits, use of financial institutions for saving or checking accounts, rates of reliance on public assistance or degree of reliance on check cashing services or other such financial services. Describe particular strengths of the proposed target populations or communities. For example, include important community organizations, degree of community cohesion or identity, meaningful involvement by area employers and significant investment in the target population or neighborhoods through other Federal, Tribal, State or local government programs or private sector or philanthropic initiatives.

(c) Approach—(i) Narrative Work Plan—Description of all significant planned activities for the project including those supported by the applicant and partner organizations throughout the 60-month project period. Describe all major elements and activities such as those listed below. (Provide estimates of the outputs for each activity.)

(A) Selecting and training key staff for the project.

(B) Developing strong collaborations with key government agencies, faith-based organizations, and non-profit and for-profit organizations that will support the overall asset building strategy.

(C) Establishing and maintaining the Project Reserve Fund.

(D) Developing protocols for managing the Project Reserve Fund account including a system for allocating interest income for project administration and to project participants.

(E) Establishing strong working relationships with one or more financial institution(s) that will participate in the project.

(F) Reaching out to community residents, employers and other key institutions about asset-building strategies in general and the IDA program in particular.

(G) Screening and selecting project participants.

(H) Determining the unique needs of each participant or group of participants including their needs for economic education, credit repair and other assistance, as well as determining their particular strengths.

(I) Providing economic education, credit repair, asset-specific information and other training or supportive services to participants.

(J) Developing savings plans with participants and working with them to save accordingly.

(K) Providing payments to project participants' IDAs as match for savings.

(L) Establishing and maintaining IDAs for each participant including specific arrangements concerning the accounts with financial institutions or others.

(M) Assisting participants who have difficulty completing the economic education or abiding with the terms of their savings plan.

(N) Ensuring that clients use IDAs only as appropriate, including for emergency expenses.

(O) Ensuring that project participants purchase an eligible appreciable long-term asset within the program timeframes.

(P) Providing follow-up assistance to participants, if needed.

(Q) Providing required financial and programmatic reports to ACF.

(R) Participating actively in the national evaluation of the demonstration program including providing program data and other information as required.

(S) Managing periodic internal program reviews concerning staffing, participant successes, and other issues to be addressed.

(ii) Tax Preparation and Tax Credit Outreach—Description of planned strategies for assisting project participants with preparing annual tax returns and, if applicable, applying for Federal and State refundable tax credits such as the Earned Income Tax Credit and the Child Tax Credit.

(iii) Timeline—A 60-month project timeline that is consistent with the proposed budget, that reflects key activities outlined in the narrative work plan and that accommodates the requirement that all project participants complete their economic education, complete their savings plans and purchase an appreciable asset by the end of the project. Applicants are strongly encouraged to present the timeline in the format of a Gantt chart.

(iv) Planned IDA Match—Description of the plan for matching participants’ saving in their IDAs including a description of the rationale for the match rate used for each of the three allowed asset purchases. For example, a description of the match rate for participants who will save for a first home and the rationale for choosing that rate. Include this information for each type of asset for which project participants will be allowed to save.

(v) Innovative Approaches—Description of innovative aspects of the proposed project. Describe how the proposed project will be supported by area employers or other private sector entities. Discuss any aspects that are unique or innovative for the target community or population and why each aspect is important to the overall success of the proposed project. Discuss strategies for using information technology for the project. Discuss using direct deposit for participant savings. If appropriate, discuss how the proposed project would be an important component of other significant and comprehensive neighborhood revitalization initiative(s) such as a Federal Empowerment Zone, Enterprise Community or Renewal Community project, Weed and Seed project sites or private sector or philanthropic initiatives.

(vi) Partner Organizations—List of public and private non-profit and for-profit organizations that will participate in any way in the proposed project. Provide a clear description of the roles and responsibilities of each organization including the role each will have in providing services for project clients and the degree to which they will have a role in managing the overall project. Describe how additional partners would be recruited throughout the project period.

If the applicant is the lead organization of a collaborative or group of organizations that will jointly administer the project, provide a description of each organization including details about each one's experience and staff capabilities. Also include a description of the lead agency's capacity and experience in managing multi-agency projects and the roles and responsibilities of each partner agency. Such applicants are strongly encouraged to provide copies of official partnering agreements signed by the participating organizations that clearly set forth each organization's roles and responsibilities for the proposed project.

Describe the partner relationship between the applicant (and partner organizations, if appropriate) and one or more Federally funded financial institution(s) where the Project Reserve Fund and participant Individual Development Accounts will be established and maintained. (If the applicant organization is a financial institution and it will be the depository of the Project Reserve Fund and participants' IDAs include a statement so indicating.)

4. Results or Benefits Expected—Explain how the project will produce results. Specify outcome and output statements that can be used as indicators of the extent to which each Objective listed under “Goals and Objectives” above are being achieved. Include participant-level and Agency-level output and outcome statements, as appropriate.

An outcome statement describes the result of the AFI Project's effort. Participant-level outcome statements may include, for example, the extent to which participants improve their credit history; file Federal and State tax returns and apply for Earned Income Tax Credit, Child Tax Credit or other refundable tax credits (if applicable); save earned income; gain assets, and become economically self-sufficient for the long term. Agency-level outcome statements may include: develop stronger positive relationships with partner service providers, area employers and financial institutions.

An output statement describes the goods and services produced which can be measured on a periodic basis (e.g., quarterly). (The output statements should reflect the timing of activities and tasks listed in the project narrative and shown on the Gantt chart developed for the work plan.) Participant-level outputs may include the number of outreach activities completed; the number of participants recruited and enrolled; the number of financial education classes offered; number of asset-specific trainings offered; and so on. Agency-level output statements may describe the extent to which the AFI Project agency provides timely reports to ACF on financial and programmatic issues, as well as on providing information for the national evaluation.

5. Evaluation Plan—Description of a strategy for collecting and validating data for use in program management, monitoring and evaluation. Provide a statement that the applicant and any participating organizations will cooperate and participate actively with OCS in the national evaluation of the Assets for Independence Demonstration Program. Provide a statement that the applicant will use an electronic management information system for project data.

6. Organizational Profile—Description of the applicant organization. Describe the organization's capacity for and experience in developing and operating anti-poverty and asset-building projects. Discuss previous successes at working with the target populations and communities. Discuss the organization's experience in working closely with financial institutions, area employers, and other key organizations. Identify staff that will be responsible for managing and administering the project and discuss their relevant experience. Include copies of resumes or other summary information about the skills and capacity of each proposed key staff person. Also provide the following additional information:

(a) Proof of Eligibility—Provide required proof of eligibility for the applicant organization and, if relevant, partner organizations. See Section III “Eligibility Information” for more details.

(b) Proof of Commitment of Non-Federal Cost Share—One or more completed “Non-Federal Contribution Agreement” form(s) or statement(s) of commitment including information about the required contribution from private or non-Federal public sources.

7. Budget and Budget Justification—Provide completed Standard Forms and a narrative as follows:

(a) Completed Standard Form 424—Standard form that has been signed by an authorized official representative of the lead applicant organization.

(b) Standard Form 424A—Budget Information—Non-Construction Programs.

(c) Narrative Budget Justification—Narrative information about each object class category required under Section B, Standard Form 424A, including a description of reasonable funding amounts for actions, tasks and so forth.

Applicants have the option of omitting from the application copies (not the original) of specific salary rates or amounts for individuals specified in the application budget.

Required Standard Forms

Applicants must sign and return Standard Form 424, Application for Federal Assistance. The form must be signed and submitted with the application.

Applicants requesting financial assistance for a non-construction project must sign and return Standard Form 424B, Assurances: Non-Construction Programs with their applications. Applicants must sign and submit the Form 424B with their application.

Applicants must provide a Certification Regarding Lobbying when applying for an award in excess of $100,000. Applicants must sign and return the certification with their applications.

Applicants must make the appropriate certification of their compliance with the requirements of the Pro-Children Act of 1994 as outlined in Certification Regarding Environmental Tobacco Smoke. By signing and submitting the application, applicants are providing the certification and need not mail back the certification with the application.

Private, non-profit organizations are encouraged to submit with their applications the survey located under “Grant Related Documents and Forms” titled “Survey for Private, Non-Profit Grant Applicants.” The forms are located on the web at http://www.acf.hhs.gov/programs/ofs/forms.htm

3. Submission Date and Times

The closing time and date for receipt of applications is 4:30 p.m. (Eastern Standard Time) on July 27, 2004. Mailed or hand carried applications received after 4:30 p.m. on the closing date will be classified as late.

Deadline: Mailed applications shall be considered as meeting an announced deadline if they are received on or before the deadline time and date at the following address: U.S. Department of Health and Human Services, Administration for Children and Families, Office of Community Services Operations Center, Assets for Independence Program, 1815 Fort Meyer Drive, Suite 300, Arlington, Virginia 22209, ATTN: Barbara Ziegler-Johnson, Telephone: 1-800-281-9519.

Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8 a.m. and 4:30 p.m., Eastern Standard Time, at the following address: U.S. Department of Health and Human Services, Administration for Children and Families, Office of Community Services Operations Center, Assets for Independence Program, 1815 Fort Meyers Drive, Suite 300, Arlington, Virginia 22209, ATTN: Barbara Ziegler-Johnson, Telephone: 1-800-281-9519.

Applicants are cautioned that express/overnight mail services do not always deliver as agreed.

Late applications: Applications which do not meet the criteria above are considered late applications. ACF shall notify each late applicant that its application will not be considered in the current competition.

Extension of deadlines: ACF may extend application deadlines when circumstances such as acts of God (floods, hurricanes, etc.) occur, or when there are widespread disruptions of mails service. Determinations to extend or waive deadline requirements rest with the Chief Grants Management Officer.

What to submit | Required content | Required form or format | When to submit
Table of Contents | A numbered list of sections, subsections and appendices included in the application materials | Number each page sequentially | By application due date.
Project Summary/Abstract | Brief narrative that identifies the type of project, the target population and the major elements | Consistent with guidance in the “Application Content” sub-section and the evaluation criteria listed in this announcement | By application due date.
Project Narrative | A narrative that includes the following three sub-components and addresses issues described in the “Application Review Information” and the evaluation criteria listed in this announcement | Consistent with guidance in the “Application Content” sub-section and the evaluation criteria listed in this announcement | By application due date.
Project Narrative Component A—Goals and Objectives | Narrative that describes the project goals for the proposed asset-building strategies. Also include objectives that describe measurable targets to be achieved | Consistent with guidance in the “Application Content” sub-section and the evaluation criteria listed in this announcement | By application due date.
Project Narrative Component B—Needs for Assistance and Strengths | Narrative that describes the economic condition of the target populations and communities, with particular attention to the needs to be addressed and the strengths of the community that will bolster a successful program | Consistent with guidance in the “Application Content” sub-section and the evaluation criteria listed in this announcement | By application due date.
Project Narrative Component C—Approach | Overall detailed project work plan | Consistent with guidance in “Application Content” sub-section and the evaluation criteria listed in this announcement | By application due date.
Results or Benefits Expected | Projected results. Include outcome and output statements | Consistent with guidance in the “Application Content” sub-section and the evaluation criteria listed in this announcement | By application due date.
Evaluation Plan | Detailed information about the proposed strategy for collecting data for program management and evaluation | Consistent with guidance in the “Application Content” sub-section and the evaluation criteria listed in this announcement | By application due date.
Organizational Profile | Description of organizational and staff capacity, proof of eligibility and proof of commitment of non-Federal cost share | Consistent with guidance in the “Additional Information on Eligibility ” section, the “Application Content” sub-section and the evaluation criteria listed in this announcement | By application due date.
Budget and Budget Justification and Standard Forms | Budget information including: narrative budget justification; completed Standard Form 424; completed Standard Form 424A; completed Standard Form 424B | Consistent with guidance in “Application Content” sub-section of this announcement. Required Standard Forms are posted on the Internet at http://www.acf.hhs.gov/programs/ofs/forms.htm | By application due date.
Certification regarding lobbying | As per required form | Required Standard Forms are posted on the Internet at http://www.acf.hhs.gov/programs/ofs/forms.htm | By application due date.
Certification regarding environmental tobacco smoke | As per required form | Required Standard Forms are posted on the Internet at http://www.acf.hhs.gov/programs/ofs/forms.htm | By application due date.
Proof of Eligibility | As described in Section III. Eligibility | Per description in Section III. | By application due date.

Additional Forms: Private, non-profit organizations are encouraged to submit with their applications the survey located under “Grant Related Documents and Forms” titled “Survey for Private, Non-Profit Grant Applicants” at http://www.acf.hhs.gov/programs/ofs/forms.htm.

What to submit | Required content | Required form or format | When to submit
Survey for Private, Non-Profit Grant Applicants | Per optional form | Posted on the Internet at http://www.acf.hhs.gov/programs/ofs/forms.htm | By application due date.

4. Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs.

As of October 2003, of the most recent SPOC list, the following jurisdictions have elected not to participate in the Executive Order process. Applicants from these jurisdictions or for projects administered by federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Pennsylvania, South Dakota, Tennessee, Vermont, Virginia, Washington and Wyoming.

Although the jurisdictions listed above no longer participate in the process, entities that have met the eligibility requirements of the program are still eligible to apply for a grant even if a State, Territory, Commonwealth, etc. does not have a SPOC. All remaining jurisdictions participate in the Executive Order process and have established SPOCs. Applicants from participating jurisdictions should contact their SPOCs as soon as possible to alert them about the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

Comments should be submitted directly to ACF, they should be addressed to: Department of Health and Human Services, Administration for Children and Families, Office of Community Services Operations Center, Assets for Independence Program, 1815 Fort Meyers Drive, Suite 300, Arlington, Virginia 22209, ATTN: Barbara Ziegler-Johnson.

The official list, including addresses, of the jurisdictions elected to participate in E.O. 12372 can be found on the following URL: http://www.whitehouse.gov/omb/grants/spoc.html.

5. Funding Restrictions

Grantees must adhere to all requirements of the AFI Act (“Act”) (Pub. L. 105-284, 42 U.S.C. 604 note). Some critical requirements are listed below.

As provided in the Act, section 404, an “Individual Development Account” is a trust or custodial account created or organized in the United States exclusively for the purpose of paying the qualified expenses of an eligible AFI Project participant, or enabling the participant to make an emergency withdrawal. The Act imposes the following limitations, as follows:

(a) No contribution will be accepted for deposit into the IDA unless it is in cash or by check.

(b) The IDA trustee is a Federally-insured financial institution or a State insured financial institution if no Federally-insured financial institution is available.

(c) An IDA custodial account will be treated as a trust if the account assets are held by a bank or a person who demonstrates that they will administer the account consistent with the requirements of the Act and if the account would, except for the fact that it is not a trust, constitute an IDA as defined above.

(d) The assets of the IDA trust or custodial account will be invested in accordance with the direction of the AFI Project participant after consultation with the AFI Project grantee organization.

(e) The assets of the trust or custodial account will not be commingled with other property except in a common trust fund or common investment fund.

(f) Any amount in the trust or custodial account that is attributable to a deposit from the Project Reserve Fund may be distributed out of the trust or custodial account only for the purpose of paying the qualified expenses of the AFI Project participant.

(g) Any balance in the trust or custodial account on the day after the AFI Project participant dies shall be distributed within 30 days of that date as directed by the participant to another IDA established for benefit of another eligible individual.

As provided in the Act, section 404, there are certain limitations on the types of expenses for which the project participants may use their IDA resources. AFI Projects may allow participants to use IDA savings for any one or more of four expenses, as follows (subject to additional AFIA restrictions):

(a) Post-secondary educational expenses paid from an IDA account directly to an eligible educational institution. Educational expenses are, for example, tuition, fees, books, supplies and equipment.

(b) First-home purchase expenses for a qualified principal residence paid from an IDA account directly to the persons for whom the amounts are due.

(c) Business capitalization expenses paid from an IDA account directly to a business capitalization account that is established in a Federally-insured financial institution or State insured institution if no Federally-insured financial institution is available.

(d) Transfers to IDAs of family members.

As provided in the Act, section 407, there are certain limitations on the use of AFI grant funds. Consistent with these:

OCS will support qualified entities, other than a State or local government agency or a tribal government, that propose to establish a Project Reserve Fund in accordance with legislative requirements including that as soon as practicable after receipt of the award, the grantee will deposit in the Project Reserve Fund all cost-share funds provided to the grantee from any public or private source in connection with the AFI Project and the proceeds from any investments made, as allowed by the Act.

OCS will support programs that propose to use at least 85 percent of the sum of the AFI grant and the required non-Federal, cash cost-share contribution to make matching deposits to project participants' IDAs.

OCS will only support AFI Projects that propose to use no more than 15 percent of the AFI grant for the following three purposes:

(a) Assisting program participants in obtaining skills and information they need to achieve economic self-sufficiency. Typically, such activities include case management, credit counseling and economic education and training on budgeting and credit issues.

(b) Supporting program administrative activities. Typically, these include program management, staffing, facilities and rent, and supplies. They also include costs associated with complying with recruitment and enrollment of program participants and Federal reporting requirements. OCS will not support projects that propose to use more than 7.5 percent of the Project Reserve Fund for these functions.

(c) Participating actively in the national program evaluation and research. OCS will not support projects that propose to use less than 2 percent of the Project Reserve Fund for this function.

An applicant that proposes to use less than 5.5 percent of the Project Reserve Fund for purpose A above may apply up to an additional 2.5 percent of the Project Reserve Fund for purpose B.

Where more than one grantee jointly administers a project, or where an applicant is a consortium of organizations, each organization must use no more than its proportional share of the 15 percent for the three purposes.

As provided in the Act, section 408, individuals with the following qualifications are eligible to enroll as a participant in an AFI Project:

(a) Any member of a household that is eligible for assistance under the State Temporary Assistance for Needy Families program established under part A of title VI of the Social Security Act (42 U.S.C. 601 et seq.); or

(b) Any individual whose household adjusted gross income is equal to or less than 200 percent of the poverty line (as determined by the Office of Management and Budget) or less than the earned income amount eligible for the Federal Earned Income Tax Credit taking into account the size of the household (as described in section 32 of the Internal Revenue Code of 1986). In addition, an individuals' household net worth is no more than $10,000 (not including the value of the primary dwelling unit and one motor vehicle).

As provided in the Act, section 410, at least every three months, each AFI Project grantee shall make matching deposits into project participants' IDAs (or into a parallel account). The deposits must be made in equal amounts from Federal funds and non-Federal cost-share funds from the Project Reserve Fund. Deposits may also be made from interest income accrued on funds on deposit in the Project Reserve Fund and allocated for participant IDAs.

As provided in the Act, section 410, not more than $2,000 from an AFI grant shall be provided to any one project participant. Furthermore, no more than $4,000 from an AFI grant shall be provided to any one household over the course of the AFI Project.

OCS will only support programs for project and budget periods of five years. AFI Project grantees may expend funds during the five year project and budget period in keeping with program requirements.

OCS will not support programs that propose to use grant funds to support pre-award costs.

Prior to award of project funds, OCS will communicate with potential grantees to ensure that the proposed projects conform to all AFI Act requirements.

6. Other Submission Requirements

Submission by Mail: Mailed applications shall be considered as meeting an announced deadline if they are received on or before the deadline time and date at the U.S. Department of Health and Human Services, Administration for Children and Families Office of Community Services Operations Center, Assets for Independence Program, 1815 Fort Meyer Drive, Suite 300, Arlington, Virginia 22209. Applicants are responsible for mailing applications well in advance, when using all mail services, to ensure that the applications are received on or before the deadline time and date.

Hand Delivery: Applications hand carried by applicants, applicant couriers, other representatives of the applicant, or by overnight/express mail couriers shall be considered as meeting an announced deadline if they are received on or before the deadline date, between the hours of 8:00 a.m. and 4:30 p.m., Eastern Standard Time, at the U.S. Department of Health and Human Services, Administration for Children and Families, Office of Community Services Operations Center, Assets for Independence Program, 1815 Fort Meyer Drive, Suite 300, Arlington, Virginia 22209. This address must appear on the envelope/package containing the application with the note “Attention: Barbara Ziegler-Johnson.” Applicants are cautioned that express/overnight mail services do not always deliver as agreed.

ACF cannot accommodate transmission of applications by fax.

Electronic Submission: Please see Section IV.2. Content and Form of Application Submission, for guidelines and requirements when submitting applications electronically.

V. Application Review Information

1. Criteria

The Paperwork Reduction Act of 1995 (Pub. L. 104-13).

Public reporting burden for this collection of information is estimated to average 30 hours per response, including the time for reviewing instructions, gathering and maintaining the data needed and reviewing the collection information.

The project description is approved under OMB control number 0970-0139 which expires 4/30/2007.

An agency may not conduct or sponsor, and a person is not required to respond to, a collection of information unless it displays a currently valid OMB control number. The following section provides a general overview of the recommended contents of each applicant's project narrative. Following the general description are criteria specific to the AFI Program.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in, for example, such terms as the “number of people served.” When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Results or Benefits Expected

Identify the results and benefits to be derived. Explain how the project will reach the targeted population and how it will benefit participants or the community.

Evaluation

Provide a narrative addressing how the results of the project and the conduct of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Organizational Profiles

Provide information on the applicant organization(s) and cooperating partners such as organizational charts, financial statements, audit reports, documentation of professional accreditation, information on compliance with Federal/State/local government standards, documentation of experience in the program area, and other pertinent information.

A non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Evaluation Criteria

Evaluation Criterion I: Objectives and Needs for Assistance (Maximum: 10 Points)

Factor: Goal and Objectives Statements (5 Points)

The extent to which the applicant presents a clear goal statement supporting asset-building in general and IDAs in particular as strategies for helping low-income and low-wealth individuals and families become economically self-sufficient. The extent to which the applicant presents a small number of clear objective statements that describe anticipated targets or results of the project, including the following three objectives as long as they apply to the proposed project (These are linked to the national AFI Program goals.): (1) The increase in percentage of project participants who are homeowners; (2) The increase in the percentage of project participants who acquire postsecondary education; and (3) The increase in the percentage of project participants who create or expand a micro-enterprise. The extent to which the goals and objectives relate to the needs for assistance and strengths identified. The extent to which the applicant's goals and objectives reflect a commitment to the national demonstration of the AFI Program and IDAs as tools for reducing poverty.

Factors: Needs for Assistance and Strengths (5 Points)

The extent to which the applicant clearly identifies the target population and community(ies) or neighborhood(s) that will be the focus of the project, in terms of the geographic area, participant income, and other compelling information such as demographics, savings/assets acquisition, needs and strengths, and other factors. The extent to which the target population will include households in which a child or children is living with the child's biological or adoptive parent or legal guardian. The extent to which the project will enroll individuals residing within relatively well-defined neighborhoods or communities that experience high rates of poverty or unemployment.

Evaluation Criterion II: Approach (Maximum: 50 Points)

Factor: Work Plan and Timeline (25 Points)

(1) The extent to which the applicant presents a logical work plan with all major activities throughout the 60-month project period including any supported with non-Federal resources or provided by participating organizations. The extent to which the applicant provides a full and accurate description of the proposed use of the all requested financial assistance.

(2) The extent to which the applicant describes how the proposed project as a whole will operate from day to day, including responsibilities of the applicant and those of all participating organizations including the financial institutions.

(3) The extent to which the applicant proposes a 60-month project timeline that is consistent with the proposed budget that reflects key activities outlined in the narrative work plan and that accommodates the requirement that all project participants complete their economic education, complete their savings plans and purchase a qualified asset by the end of the project.

Factor: Tax Services (3 Points)

The extent to which the applicant proposes to provide tax preparation assistance and assistance for claiming refundable tax credits such as Federal and State Earned Income Tax Credit and the Child Tax Credit for project participants as part of the overall program.

Factor: IDA Match Rate (5 Points)

The extent to which the applicant proposes a clear and reasonable match rate or a menu of match rates for participants' IDAs that reflect the costs of eligible assets in the target community(ies). The extent to which the overall match rate strategy is reasonable in the context of other features of the proposed project.

Factor: Innovation (5 Points)

The extent to which the applicant proposes innovative strategies for vital issues such as recruiting participants, working with local partners such as employers and financial institutions and so forth. The extent to which the applicant includes strategies for enhancing financial education and financial literacy components of the program. The extent to which the applicant describes strategies for strong program administration through building partnerships with other organizations, using information technology, and arranging for direct deposits in project participants' IDAs. The extent to which the applicant describes how the proposed project would be a component of other significant and comprehensive neighborhood change projects supported by government agencies or private sector or philanthropic organizations such as Empowerment Zone, Enterprise Community, or Renewal Community projects, Weed and Seed project sites, and so forth. The extent to which the project will integrate asset-building work with activities that promote healthy marriage and family formation as a means of achieving safety, permanency, and well-being for children and families.

Factor: Partners/Collaborations (12 Points)

The extent to which the applicant describes the array of public and private organizations that will be involved in administering the project, the roles and responsibilities of each, and the process for recruiting additional partners throughout the project period. If the applicant is the lead organization of a collaborative or group of organizations that will administer the project, the extent to which the applicant describes its capacity and experience in managing multi-agency projects and the roles and responsibilities of each participating organization. The extent to which the applicant describes its relationship with one or more Federally insured financial institution(s) where the Project Reserve Fund and participant Individual Development Accounts will be established and maintained and provides clear documentation such as partnership agreements listing the financial institution(s) commitments and role(s). The extent to which the project will secure cost-share funds from private sector sources.

Evaluation Criterion III: Results or Benefits Expected (Maximum: 10 Points)

The extent to which the application describes results the project will produce. The extent to which the explanation presents clear outcome and output statements that indicate progress in achieving the objectives (as stated in the Goals and Objectives section) for delivering asset-building services and in affecting the economic status of project participants and in the target community(ies).

Evaluation Criterion IV: Evaluation (Maximum: 5 Points)

The extent to which the applicant presents a clear strategy for gathering information for program management and for producing semi-annual and annual fiscal and program progress reports including using an electronic information system for managing project data including information about the status of participants, their savings, and so forth. The extent to which the applicant presents a clear commitment to participate actively in the national outcome and process evaluation of the overall AFI Program by providing relevant and timely data to OCS and by collaborating with OCS on evaluation activities throughout the project.

Evaluation Criterion V: Organizational Profiles (Maximum: 20 Points)

Factors:

(1) The extent to which the applicant provides clear and convincing information that it has needed capacity and relevant experience in developing and operating programs for addressing the causes and effects of poverty.

(2) The extent to which the applicant provides a clear management plan that describes the applicant agency and all partnering agencies and consortium members (where applicable); and an indication of what organizations will perform various project tasks such as recruiting, training, economic literacy training, and support activities.

(3) The extent to which the applicant identifies a Project Director and other program staff with relevant experience in addressing poverty issues and working with financial institutions, specific experience with the target population and experience with asset-building approaches in general and IDAs in particular.

Criterion VI: Budget and Budget Justification (Maximum: 5 Points)

The extent to which the applicant organization(s) provides a budget commensurate with the level of effort necessary to accomplish the goals and objectives of the project, and demonstrate that the estimated cost to the government is reasonable in relation to the anticipated results. The extent to which the applicant presents a detailed budget breakdown and a narrative justification for each of the budget categories in the SF-424A and reasonable funding amounts for program administration, economic education and other training and services for project participants.

1. Review and Selection Process

OCS Evaluation of Applications

Applications will undergo an initial OCS screening to ensure that they comply with the format requirements as outlined in this announcement. Applications that fulfill these requirements will be reviewed and rated by a panel based on the application content and evaluation criteria presented in this announcement.

The evaluation criteria are designed to enable the review panel to assess the quality of a proposed project and determine the likelihood of its success. The criteria are closely related to each other and are considered as a whole in judging the overall quality of an application.

The OCS Director and program staff use review panel scores when considering competing applications. Review panel scores will weigh heavily in funding decisions, but will not be the only factors considered. Applications generally will be considered in order of the average scores assigned by the review panel. Because other important factors are taken into consideration, highly ranked applications are not guaranteed funding. These other considerations include the timely and proper completion by the applicant of projects funded with OCS funds granted in the last five (5) years; comments of reviewers and government officials; OCS staff evaluation and input; amount and duration of the grant requested and the proposed project's consistency and harmony with OCS goals and policy; geographic distribution of applications; previous program performance of applicants; compliance with grant terms under previous HHS grants, including the actual dedication to program of mobilized resources as set forth in project applications; audit reports; investigative reports; and applicant's progress in resolving any final audit disallowance on previous OCS or other Federal agency grants.

Additional considerations for applications that rank high include: (a) previous performance of the applicant; (b) the results of a pre-award site visit to assess an applicant prior to making a final determination on the grant award.

VI. Award Administration Information

1. Award Notices

The successful applicants will be notified through the issuance of a Financial Assistance Award document which sets forth the amount of funds granted, the terms and conditions of the grant, the effective date of the grant, the budget period for the initial support will be given, the non-Federal share to be provided, and the total project period for which support is contemplated. The Financial Assistance Award will be signed by the Grants Officer and transmitted via postal mail.

2. Administrative and National Policy Requirements

Grantees are subject to the audit requirements in 45 CFR Parts 74 (non-governmental) or 92 (governmental).

3. Reporting Requirements

Programmatic Reports: All grantees are required to submit semi-annual program reports with the final report due 90 days after the project end date. Grantees are also required to submit semi-annual expenditure reports using the required financial standard form (SF-269) with the final report due 90 days after the project end date. A suggested format for the program report will be sent to all grantees after the awards are made.

Special Reporting Requirements: All grantees are required to submit annual data reports. A suggested format for the program report will be sent to all grantees after the awards are made.

Original reports and one copy should be mailed to: Office of Grants Management, Division of Discretionary Grants, 370 L'Enfant Promenade, SW., Aerospace Building, Washington, DC 20447-0002.

VII. Agency Contacts

Program Office Contact:James Gatz, Office of Community Services, 370 L'Enfant Promenade, SW., Suite 500 West, Aerospace Building, Washington, DC 20447-0002, Email: AFIProgram@acf.hhs.gov, Telephone: (202) 401-4626.

Grants Management Office Contact:Barbara Ziegler Johnson, Office of Grants Management, Division of Discretionary Grants, 370 L'Enfant Promenade, SW., Aerospace Building, Washington, DC 20447-0002. Email: ocs@lcgnet.gov. Telephone: 1-800-281-9519.

VIII. Other Information

Additional information about this program, including Application Package and tips on developing a high quality project, is posted on the Internet at: http://www.acf.hhs.gov/assetbuilding/.

Dated: May 20, 2004.
Clarence H. Carter,
Director, Office of Community Services.

[FR Doc. 04-12129 Filed 5-27-04; 8:45 am]

BILLING CODE 4184-01-U